DEPARTMENT OF TRANSPORTATION

Federal Aviation Administration

Noise Exposure Map Update for Buffalo Niagara International Airport, Buffalo, NY

AGENCY: Federal Aviation Administration, DOT.

ACTION: Notice.

SUMMARY: The Federal Aviation Administration (FAA) announces its determination that the updated noise exposure maps submitted by the Niagara Frontier Transportation Authority (NFTA), for Buffalo Niagara International Airport, under the provisions of 49 U.S.C. 47501 et seq. (Aviation Safety and Noise Abatement Act) and 14 CFR Part 150 are in compliance with applicable requirements.

DATES: Effective Date: The effective date of the FAA's determination on the noise exposure maps is September 20, 2011.

FOR FURTHER INFORMATION CONTACT: Ms. Suki Gill, Environmental Protection Specialist, Federal Aviation Administration, New York Airports District Office, 600 Old Country Road, Suite 446, Garden City, NY 11530, Telephone (516) 227-3815.

SUPPLEMENTARY INFORMATION: This notice announces that the FAA finds that the updated noise exposure maps submitted for Buffalo Niagara International Airport are in compliance with applicable requirements of 14 Code of Federal Regulations (CFR) part 150 (hereinafter referred to as “part 150”), effective September 20, 2011. Under 49 U.S.C. section 47503 of the Aviation Safety and Noise Abatement Act (hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of part 150, promulgated pursuant to the Act, may submit a noise compatibility program for FAA approval which sets forth the measures the operator has taken or proposes to take to reduce existing non-compatible uses and prevent the introduction of additional non-compatible uses.

The FAA has completed its review of the noise exposure maps and accompanying documentation submitted by the NFTA. The documentation that constitutes the “Noise Exposure Maps” as defined in section 150.7 of part 150 includes: Figure 6 “2008 Noise Exposure Map with Land Use” and Figure 9 “2013 Noise Exposure Map & Affected Land Uses.” The FAA has determined that these noise exposure maps and accompanying documentation are in compliance with applicable requirements. This determination is effective on September 20, 2011.

FAA's determination on an airport operator's noise exposure maps is limited to a finding that the maps were developed in accordance with the procedures contained in Appendix A of part 150. Such determination does not constitute approval of the applicant's data, information or plans, or a commitment to approve a noise compatibility program or to fund the implementation of that program. If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of Part 150, that the statutorily required consultation has been accomplished.

Copies of the full noise exposure map documentation and of the FAA's evaluation of the maps are available for examination at the following locations:

Federal Aviation Administration, New York Airports District Office, 600 Old Country Road, Suite 446, Garden City, NY 11530. Monday-Friday—9 a.m.-4 p.m | BNIA Noise Demonstration Home, 68 Cayuga Road, Buffalo, NY 14225. Monday-Friday—9 a.m.-4 p.m. (716) 632-3506.
Niagara Frontier Transportation Authority, Buffalo Niagara International Airport, 4200 Genesee Street, Buffalo, NY 14225, (716) 630-6000, Available upon request http://www.nfta.com

Questions may be directed to the individual named above under the heading FOR FURTHER INFORMATION CONTACT.

Issued in Jamaica, New York, on September 21, 2011.
Tom Felix,
Manager, Planning & Programming, AEA-610, Eastern Region.

[FR Doc. 2011-25154 Filed 9-29-11; 8:45 am]

BILLING CODE 4910-13-P